DEPARTMENT OF ENERGY

Notice of Availability of the Final Environmental Impact Statement for Department of Energy Activities in Support of Commercial Production of High-Assay Low-Enriched Uranium (HALEU)

AGENCY: Office of Nuclear Energy, Department of Energy.

ACTION: Notice of availability.

SUMMARY: The U.S. Department of Energy (DOE or the Department) announces the availability of the Final Environmental Impact Statement for Department of Energy Activities in Support of Commercial Production of High-Assay Low-Enriched Uranium (HALEU) (Final HALEU EIS) (DOE/EIS-0559). DOE prepared the Final HALEU EIS in accordance with the National Environmental Policy Act (NEPA) to evaluate the No Action Alternative and the Proposed Action to acquire, through procurement from commercial sources, HALEU enriched to at least 19.75 and less than 20 weight percent U-235 over a 10-year period of performance, and to facilitate the establishment of commercial HALEU fuel production. The Proposed Action addresses the Energy Act of 2020 for the acquisition of HALEU produced by a commercial entity using enrichment technology and making it available for commercial use or demonstration projects.

DATES: DOE will issue a Record of Decision based on the Final HALEU EIS no sooner than 30 days after the publication of the U.S. Environmental Protection Agency Notice of Availability of the Final HALEU EIS in the Federal Register.

ADDRESSES: Communications regarding the Final HALEU EIS should be sent to Mr. James Lovejoy, HALEU EIS Document Manager, by mail to U.S. Department of Energy, Idaho Operations Office, 1955 Fremont Avenue, MS 1235, Idaho Falls, Idaho 83415; or by email to HALEU-EIS@nuclear.energy.gov. The Final HALEU EIS is available for viewing or download at https://www.energy.gov/ne/haleu-environmental-impact-statement.

FOR FURTHER INFORMATION CONTACT: For information regarding the DOE HALEU Availability Program, visit https://www.energy.gov/ne/haleu-availability-program. For information regarding the HALEU EIS, visit https://www.energy.gov/ne/haleu-environmental-impact-statement, or contact Mr. James Lovejoy at either the mailing address listed in the ADDRESSES section, via email at HALEU-EIS@nuclear.energy.gov, or by telephone: (208) 526-4519. For general information on DOE's NEPA process, contact Mr. Jason Anderson at the mailing address listed in the ADDRESSES section, via email at HALEU-EIS@nuclear.energy.gov, or by telephone: (208) 360-3437.

SUPPLEMENTARY INFORMATION:

Background

The Energy Act of 2020, codified at 42 U.S.C. 16281(a)(1), directs DOE “to establish and carry out . . . a program to support the availability of HA-LEU for civilian domestic research, development, demonstration, and commercial use.” Section 2001(a)(2)(D)(v) of the Energy Act more specifically directs DOE to consider using enrichment technology to make HALEU available for commercial use or demonstration projects, where such HALEU is produced in the United States by—(I) a United States-owned commercial entity operating United States-origin technology; (II) a United States-owned commercial entity operating a foreign-origin technology; or (III) a foreign-owned entity operating a foreign-origin technology, 42 U.S.C. 16281(a)(2)(D)(v).

The current U.S. commercial power reactor fuel cycle is based on low-enriched uranium (LEU) enriched to less than 5 percent of uranium-235 (U-235), but many advanced reactor designs require HALEU.

HALEU is defined as “uranium having an assay greater than 5.0 weight percent and less than 20.0 weight percent of the uranium-235 isotope,” 42 U.S.C. 16281(d)(4). In the United States, HALEU is currently made, in limited quantities, by blending down DOE stockpiles of highly enriched uranium (HEU) (enriched to 20 percent or greater), with natural uranium or lower enriched uranium (i.e., “downblending”). Anticipated demand from research reactors, isotope production facilities, and advanced nuclear reactors will require more HALEU to be manufactured for commercial purposes. DOE has limited capability to produce HALEU by downblending existing surplus stockpiles of HEU. A sufficient domestic commercial capability to produce HALEU through enrichment of natural uranium or LEU does not exist in the United States.

DOE projects that more than 40 metric tons (MT) of HALEU will be needed by 2030 with additional amounts required each year thereafter to deploy a new fleet of advanced reactors in a timeframe that supports the Administration's 2050 net-zero emissions target. The lack of an adequate domestic, commercial fuel supply could impede both reactor demonstrations and the development of future advanced reactor technologies.

As indicated by many commercial entities that responded to DOE's Request for Information (RFI) Regarding Planning for Establishment of a Program to Support the Availability of High-Assay Low Enriched Uranium (HALEU) for Civilian Domestic Research, Development, Demonstration, and Commercial Use, 86 FR 71055 (Dec. 14, 2021) (referred to as the “RFI”), there are potential timing and coordination issues with developing that capability. Those interested in designing, building, and operating advanced reactor designs that use HALEU fuel are hesitant to invest in the technology without a firm source of HALEU fuel. Likewise, those interested in providing HALEU fuel are hesitant to invest in facilities without a firm demand. As described in multiple responses to the RFI, this is a “chicken-and-egg” dilemma.

This concern is a consistent theme in the industry responses to DOE's RFI. Responders emphasized the opportunity for DOE to be an agent for stability (both in assuring HALEU availability and market price certainty) during the initial phase of HALEU fuel production.

To address this issue, an initial public/private partnership is intended to accelerate development of a sustainable commercial HALEU supply capability. If successful, this partnership could provide the incentive for the private sector to incrementally expand the capacity in a modular fashion as a sustainable market develops.

In 2023 and early 2024, DOE published two Requests for Proposals (RFPs) specific to HALEU. One covers DOE's planned acquisition of HALEU as enriched uranium hexafluoride. The other is for deconversion services to deconvert enriched HALEU to other forms, such as metal or oxide, that will be used to fabricate fuels required by many advanced reactor developers. Under DOE's Request for Proposals for High-Assay Low-Enriched Uranium (HALEU)—Enrichment Acquisition (the “Enrichment RFP”), DOE solicited responses from industry regarding DOE's proposal to acquire, through procurement from commercial sources, HALEU as uranium hexafluoride (UF6) enriched to a minimum of 19.75 and less than 20 weight percent U-235.

The enriched UF6 must be deconverted to other forms, like oxide or metal, before it can be fabricated into HALEU fuel or put to other use. Under DOE's Request for Proposals for the High-Assay Low-Enriched Uranium (HALEU)—Deconversion Acquisition (the “Deconversion RFP”), DOE solicited responses from industry regarding DOE's proposal to acquire domestic HALEU deconversion services for HALEU and storage until future fuel fabrication.

DOE issued an additional RFP in June 2024, for acquisition of LEU from domestic sources offering new production capacity. During the preparation of this EIS, responses to these Requests for Proposals were being evaluated and awards had not been made.

Alternatives

The Final HALEU EIS evaluates potential environmental impacts for the Proposed Action and the No Action Alternative. The Proposed Action is to acquire, through procurement from commercial sources, HALEU enriched to at least 19.75 and less than 20 weight percent U-235 over a 10-year period of performance, and to facilitate the establishment of commercial HALEU fuel production. The Proposed Action addresses Section 2001(a)(2)(D)(v) of the Energy Act of 2020, codified at 42 U.S.C. 16281, for the acquisition of HALEU produced by a commercial entity using enrichment technology and making it available for commercial use or demonstration projects.

This Final HALEU EIS addresses the following activities facilitating the commercialization of HALEU fuel production and acquisition of up to 290 MT of HALEU under the Proposed Action: (1) mining, extraction, and recovery of uranium ore producing triuranium octoxide (U3O8) (from in-situ recovery or conventional mining and milling sources); (2) uranium conversion from U3O8 to UF6 for input to enrichment facilities; (3) enrichment in up to three steps (a) from natural uranium to LEU of no more than 5 weight percent U-235, (b) from LEU to HALEU greater than 5 and less than 10 weight percent U-235, and (c) to HALEU from 10 to less than 20 weight percent U-235; (4) HALEU deconversion from UF6 to uranium oxide, metal, and other forms; (5) storage of HALEU; (6) transportation of uranium/HALEU between facilities; and (7) DOE acquisition of HALEU of at least 19.75 weight percent and less than 20 weight percent U-235. While not specifically a part of the Proposed Action, the following related actions could result from implementation of the Proposed Action: (1) fuel fabrication for a variety of fuel types; (2) HALEU-fueled reactor (demonstration and test, power, isotope production) operations; and (3) spent fuel storage and disposition. Although these are reasonably foreseeable activities that could result from implementation of the Proposed Action, many of the specifics (e.g., locations, vendors, reactor designs, type of technology, fuel forms) are unknown or not developed. These activities are dependent upon decisions outside of the Proposed Action activities. Further, the extent to which these activities could happen and if so, where they would happen is unknown and highly speculative. Therefore, a detailed assessment of the impacts of these activities is not included in the EIS. DOE acknowledged and addressed the impacts from these reasonably foreseeable activities to the extent practicable in the Final HALEU EIS.

While the Final HALEU EIS provides information that could be used to identify impacts from the construction and operation of HALEU fuel cycle facilities, the selection of specific locations and facilities will not be a part of the Record of Decision for this EIS.

The No Action Alternative is the status quo, where DOE would not implement the Proposed Action and no sufficient domestic commercial supply of HALEU is available. Development of a domestic commercial supply of HALEU would be left to industry or industry would remain reliant on foreign supplies of HALEU.

The Proposed Action—to acquire, through procurement from commercial sources, HALEU enriched to at least 19.75 and less than 20 weight percent U-235 over a 10-year period of performance, and to facilitate the establishment of commercial HALEU fuel production—is DOE's Preferred Alternative.

Public Involvement

The Final HALEU EIS follows the March 2024 release of the Draft HALEU EIS (DOE/EIS-0059). The U.S. Environmental Protection Agency published its Notice of Availability on March 8, 89 FR 16765 (Mar. 8, 2024). DOE accepted comments through April 22, 2024. During the review and comment period, DOE held three virtual hearings, two virtual Tribal Listening Sessions, and one in-person Tribal Listening Session. DOE received comments from Federal and state agencies, Tribes, industry, nonprofit organizations, and the public. In preparing the Final HALEU EIS, DOE considered and responded to the comments received on the Draft HALEU EIS. Responses to all comment are included in Volume 3 of the Final HALEU EIS.

Signing Authority

This document of DOE was signed on October 16, 2024, by Dr. Michael Goff, Acting Assistant Secretary for Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of DOE. This administrative process in no way alters the legal effect of this document upon publication in the Federal Register.

Signed in Washington, DC, on October 16, 2024.
Treena V. Garrett,
Federal Register Liaison Officer, U.S. Department of Energy.

[FR Doc. 2024-24286 Filed 10-18-24; 8:45 am]

BILLING CODE 6450-01-P